DEPARTMENT OF THE INTERIOR

Bureau of Land Management

[NV-960-1060-PF-24 1A]

Extension of Approved Information Collection, OMB Control Number 1004-0042

AGENCY: Bureau of Land Management, Interior.

ACTION: Notice and request for comments.

SUMMARY: In accordance with the Paperwork Reduction Act of 1995, the Bureau of Land Management (BLM) is requesting the Office of Management and Budget (OMB) to extend an existing approval to collect certain information from those individuals requesting to adopt a wild horse or burro (43 CFR part 4750). BLM uses Form 4710-10, Application for Adoption of Wild Horse(s) or Burro(s), to collect this information. This information allows BLM to determine whether or not an individual qualifies to provide humane care and proper treatment, including transportation, feeding and handling, to an adopted wild horse or burro.

DATES: You must submit your comments to BLM at the address below on or before May 6, 2003. BLM will not necessarily consider any comments received after the above date.

ADDRESSES: You may mail comments to: Bureau of Land Management (WO-630), Eastern States Office, 7450 Boston Blvd., Springfield, Virginia 22153.

You may send comments via Internet to: WOComment@blm.gov. Please include “ATTN: 1004-0042” and your name and return address in your Internet message.

You may deliver comments to the Bureau of Land Management, Administrative Record, Room 401, 1620 L Street, NW., Washington, DC.

All comments will be available for public review at the L Street address during regular business hours (7:45 a.m. to 4:15 p.m.), Monday through Friday.

FOR FURTHER INFORMATION CONTACT: You may contact Bea Wade, on (775) 861-6583 (Commercial or FTS). Persons who use a telecommunications device for the deaf (TDD) may call the Federal Information Relay Service (FIRS) at 1-800-877-8330, 24 hours a day, seven days a week, to contact Ms. Wade.

SUPPLEMENTARY INFORMATION: 5 CFR 1320.12(a) requires BLM to provide 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the burden of the collection of information on those who are to respond, including the use of appropriate automated, electronic, mechanical, or other technological collection techniques or other forms of information technology.

Section 3(b)(2)(B) of the Wild Free-Roaming Horse and Burro Act requires that BLM provide for individuals to adopt wild horses and burros whom the Secretary determines are qualified to provide humane care and proper treatment. The regulations are found at 43 CFR Subpart 4750—Private Maintenance. Applicants submit Form 4710-10, Application for Adoption of Wild Horse(s) and Burro(s), to adopt wild horses and burros.

BLM requests the following information on Form 4710-10:

(A) The applicant's name, address, and telephone number to further communicate about the adoption.

(B) For possible debt collection purposes, the driver's license number to locate the adopter if the adopter changes his/her address within the state and does not leave a forwarding address. Wild horses and burros remain the property of the United States until title passes to private individuals. During the period between adoption and the passing of title, BLM is under obligation to see that the animals receive human care and proper treatment. For that reason, BLM visits and contacts the adopter to determine that status and condition of the animals. BLM uses this information to also determine the location and condition of animals if the adopter should change the location of the animals within the State.

(C) The birth date of the applicant to assure that the applicant qualifies to adopt an animal under 43 CFR 4750.3-2 (must be at least 18 years or older).

(D) The applicant's social security number. In those states where the driver's license and social security numbers are the same, the applicant needs only his/her driver's license number. BLM uses this information for possible debt collection purposes and to track the location of the adopter if the adopter moves out-of-state.

(E) The applicant must indicate the number and species of animals the adopter wishes to adopt so we can determine the availability of the animals requested.

(F) The applicant must provide a map of the location where the adopted animals will be located so that we can conduct inspections of the facility and the animals to ensure compliance under 43 CFR 4750.3-2 relating to private maintenance.

(G) The applicant must understand the restrictions related to adopting a wild horse or burro.

(H) BLM needs the information on the site where the animals are kept to assure that the facilities provide for humane care and comply with the private maintenance regulations located at 43 CFR 4750.3-2.

(I) The applicant must sign a Private Maintenance and Care Agreement (a part to the Form 4710-10) after BLM approves the application to adopt a wild horse or burro.

BLM uses the information to determine whether individuals are qualified to provide humane care and proper treatment to one or more adopted animals. When BLM approves the application and the individual completes a Private Maintenance and Care Agreement, the individual may adopt one to four wild horses or burros at one time. There is no other source for the required information, and failure to furnish the required information will result in the applicant's denial to adopt a wild horse or burro.

The collection of information is short, simple and does not inconvenience the applicant. Valuable dialogue normally occurs during the approval process when BLM conducts an interview with the applicant to ensure that the applicant understands the obligations and prohibited acts and is knowledgeable about horses and burros or has access to assistance from a knowledgeable individual.

Based on BLM's experience in administering the activities described above, we estimate the public reporting burden is 10 minutes per response to complete the required information. We estimate 30,000 responses per year and a total annual burden of 5,000 hours.

BLM will summarize all responses to this notice and include them in the request for OMB approval. All comments will become a matter of public record.

Dated: February 13, 2003.
Michael H. Schwartz,
Bureau of Land Management, Information Collection Clearance Officer.

[FR Doc. 03-5385 Filed 3-6-03; 8:45 am]

BILLING CODE 4310-84-M